DEPARTMENT OF INTERIOR

Notice of Availability of a Record of Decision on the Final Environmental Impact Statement for the General Management Plan, Carl Sandburg Home National Historic Site, North Carolina

AGENCY: National Park Service.

ACTION: Notice.

SUMMARY: Pursuant to section 102(2)(C) of the National Environmental Policy Act of 1969, Pub. L. 91-190, 83 Stat. 852, 853, codified as amended at 42 U.S.C. 4332(2)(C), the National Park Service announces the availability of the Record of Decision for the General Management Plan, Carl Sandburg Home National Historic Site, North Carolina. On September 19, 2003, the Acting Regional Director, Southeast Region approved the Record of Decision for the project. As soon as practicable, the National Park Service will begin to implement the Preferred Alternative contained in the Final Environmental Impact Statement issued on July 23, 2003. The following course of action will occur under the preferred alternative:

In the preferred alternative, the park serves as a national focal point for learning about Carl Sandburg. Access to more in-depth information about his life and work at Connemara would be provided through an extensive internet database and other high technology mass media formats. Visitors who come to the site in person would find extraordinary opportunities to participate in interpretive programs. The selected alternative provides high quality museum space where visitors can gain additional access to information and objects currently housed in the museum preservation facility. Providing a high quality interpretive venue is considered an essential component of the alternative. Additional interpretive venues would be created by rehabilitating one or more historic structures near the main house or barn for interpretive program areas, renovating the existing Front Lake visitor information station to improve its interpretive and visitor services function, and creating a visitor interpretive center outside the current authorized boundary of the park. A Congressionally legislated boundary expansion of up to 110 acres would provide critical views and boundary protection. The location of the proposed 110 acre boundary expansion is illustrated in Chapter Two of the GMP/FEIS. Authorization to acquire approximately 3 to 5 acres for a 5,000 sf visitor center, parking for approximately 60 cars, and associated landscaping is also recommended. Given the unpredictable availability of funding and property, an exact location for the visitor center and parking area cannot be identified at this time; however, any selected site would be located west of Highway 25 and south of Little River Road in the Village of Flat Rock. Any property considered for acquisition by the National Park Service would be purchased under a willing seller/willing buyer arrangement, without the exercise of eminent domain.

This course of action plus three other alternatives were analyzed in the Draft and Final Environmental Impact Statements. The full range of foreseeable environmental consequences was assessed, and appropriate mitigating measures were identified.

The Record of Decision includes a statement of the decision made, synopses of other alternatives considered, the basis for the decision, a description of the environmentally preferable alternative, a finding of no impairment to park resources and values, measures to minimize potential environmental consequences, and an overview of public involvement in the decision-making process.

DATES: The Record of Decision for the General Management Plan and Final Environmental Impact Statement for Carl Sandburg Home National Historic Site was signed by the Acting Regional Director for the National Park Service Southeast Region on September 19, 2003.

ADDRESSES: Copies of the Record of Decision are available from the Superintendent, Carl Sandburg Home National Historic Site, 1928 Little River Road, Flat Rock, North Carolina, 28731.

FOR FURTHER INFORMATION CONTACT: Superintendent, Carl Sandburg Home National Historic Site, 1928 Little River Road, Flat Rock, North Carolina, 28731. Telephone: 828-693-4178.

SUPPLEMENTARY INFORMATION: Copies of the Record of Decision may be obtained from the contact listed above or online at http://www.nps.gov/carl.

Dated: September 19, 2003.
Wally Hibbard,
Acting Regional Director, Southeast Region.

[FR Doc. 03-28387 Filed 11-12-03; 8:45 am]

BILLING CODE 4310-L6-P